DEPARTMENT OF DEFENSE

Office of the Secretary

[DoD-2007-OS-0076]

Privacy Act of 1974; Systems of Records

Correction

In notice document 07-3558 appearing on page 40125 in the issue of Monday, July 23, 2007 make the following correction:

In the first column, the heading “S600.60” should read “S600.50”.

[FR Doc. C7-3558 Filed 7-25-07; 8:45 am]

BILLING CODE 1505-01-D

DEPARTMENT OF THE TREASURY

Internal Revenue Service

26 CFR Part 1

[REG-143601-06]

RIN-1545-BG30

Mortality Tables for Determining Present Value

Correction

In proposed rule document 07-2631 beginning on page 29456 in the issue of Tuesday, May 29, 2007, make the following corrections:

1. On page 29466, in the second table, in the heading for the last column, “combines”should read “combined”.

2. On pages 29467 and 29468, in the heading for the last column, “combines” should read “combined”.

[FR Doc. C7-2631 Filed 7-25-07; 8:45 am]

BILLING CODE 1505-01-D